DEPARTMENT OF HOMELAND SECURITY

Coast Guard

33 CFR Part 117

[Docket No. USCG-2018-0714]

Drawbridge Operation Regulation; Atlantic Intracoastal Waterway, New Smyrna Beach, FL

AGENCY: Coast Guard, DHS.

ACTION: Notice of deviation from drawbridge regulation.

SUMMARY: The Coast Guard has issued a temporary deviation from the operating schedule that governs the George Musson/Coronado Beach (SR 44) Bridge across the Atlantic Intracoastal Waterway, mile 845, New Smyrna Beach, FL. The deviation is necessary to accommodate painting of the bridge. This deviation allows the bridge to remain in the closed to navigation position from 7 p.m. to 7 a.m. nightly Sunday through Friday.

DATES: This deviation is effective without actual notice from August 30, 2018 through 6 p.m. on December 15, 2018. For the purposes of enforcement, actual notice will be used from 7 p.m. on August 13, 2018, until August 30, 2018.

ADDRESSES: The docket for this deviation, USCG-2018-0714 is available at http://www.regulations.gov. Type the docket number in the “SEARCH” box and click “SEARCH”. Click on Open Docket Folder on the line associated with this deviation.

FOR FURTHER INFORMATION CONTACT: If you have questions on this temporary deviation, call or email MST1 Jeremy Bailey, Coast Guard Sector Jacksonville Waterways Management; telephone (904) 714-7631, email Jeremy.S.Bailey@uscg.mil.

SUPPLEMENTARY INFORMATION: Florida Department of Transportation (FDOT) via Southern Road and Bridge LLC, has requested a temporary deviation from the operation that govern the George Musson/Coronado Beach (SR 44) bridge over the Atlantic Intracoastal Waterway, mile 845. This deviation is necessary to facilitate the painting of the bridge and safety of the work crew. The bridge is a single-leaf bascule bridge and has a vertical clearance in the closed to navigation position of 24 feet at mean high water. The vertical clearance of the bridge will be reduced by 3 feet to 21 feet mean high water through the completion of the painting project in December of 2018.

The current operating schedule is set out in 33 CFR 117.261(h). Under this temporary deviation, the bridge will remain in the closed to navigation position from 7 p.m. to 7 a.m. nightly Sunday through Friday. The bridge will open every 3 hours at 10 p.m., 1 a.m., 4 a.m. and 7 a.m. with a one (1) hour notification. This section of the Atlantic Intracoastal Waterway is predominantly used by a variety of vessels including U.S. government vessels, small commercial vessels and recreational vessels. The Coast Guard has carefully considered the restrictions with waterway users in publishing this temporary deviation.

Vessels able to pass through the bridge in the closed position may do so at anytime. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 27, 2018.
Barry L. Dragon,
Director, Bridge Branch, Seventh Coast Guard District.

[FR Doc. 2018-18821 Filed 8-29-18; 8:45 am]

BILLING CODE 9110-04-P